DEPARTMENT OF HEALTH AND HUMAN SERVICES

National Institutes of Health

National Institute on Aging; Amended Notice of Meeting

Notice is hereby given of a change in the meeting of the National Institute on Aging Special Emphasis Panel, November 12, 2015, 10:00 a.m. to November 12, 2015, 02:00 p.m., National Institute on Aging, Gateway Building, 7201 Wisconsin Avenue, Suite 2C212, Bethesda, MD, 20892 which was published in the Federal Register on October 19, 2015, 80 FR 63236.

The meeting notice is amended to change the date of the meeting from November 12, 2015 to November 24, 2015. The meeting is closed to the public.

Dated: October 30, 2015.
Melanie J. Gray,
Program Analyst, Office of Federal Advisory Committee Policy.

[FR Doc. 2015-28230 Filed 11-4-15; 8:45 am]

BILLING CODE 4140-01-P